INTERNATIONAL TRADE COMMISSION

[Investigation No. 332-598]

Greenhouse Gas Emissions Intensities of the U.S. Steel and Aluminum Industries at the Product Level; Proposed Information Collection; Comment Request; Greenhouse Gas (GHG) Emissions Intensity Questionnaire

AGENCY: United States International Trade Commission

ACTION: Notice of request for public comments.

SUMMARY: In accordance with the provisions of the Paperwork Reduction Act of 1995, the U.S. International Trade Commission (Commission or USITC) hereby gives notice that it plans to submit a request for approval of a questionnaire to the Office of Management and Budget (OMB) for review and requests public comment on its draft proposed collection.

DATES: To ensure that the Commission will consider your comments, it must receive them no later than 60 days after publication of this notice in the Federal Register.

ADDRESSES: All Commission offices are in the U.S. International Trade Commission Building, 500 E Street SW, Washington, DC.

FOR FURTHER INFORMATION CONTACT: Please direct all questions to the project team via email at sa.emissions@usitc.gov or via phone to Shova KC at 202-205-2234.

The public record for this investigation may be viewed on the Commission's electronic docket (EDIS) at https://edis.usitc.gov. General information concerning the Commission may be obtained by accessing its internet address (https://www.usitc.gov). Hearing-impaired individuals are advised that information on this matter can be obtained by contacting the TDD terminal on 202-205-1810.

SUPPLEMENTARY INFORMATION:

The information requested by the questionnaire is for use by the Commission in connection with Investigation No. 332-598, Greenhouse Gas Emissions Intensities of the U.S. Steel and Aluminum Industries at the Product Level, instituted under the authority of section 332(g) of the Tariff Act of 1930 (19 U.S.C. 1332(g)). This investigation and report were requested by the United States Trade Representative (USTR) on June 5, 2023. This investigation was initiated on July 5, 2023, and the notice of investigation was published in the Federal Register on July 10, 2023 (88 FR 43633). The Commission will deliver its report to USTR by January 28, 2025.

As stated in the notice of investigation, the USTR requested that the Commission's report include greenhouse gas (GHG) emissions intensities of covered steel and aluminum products produced in the United States. Such information is not available in the requested specificity from governmental or other public sources. The Commission indicated in its notice of investigation that it will need to obtain much of such data and information through a survey. The survey will assist the Commission in developing, as requested, GHG emissions intensities which reflect scope 1 and scope 2 GHG emissions associated with production of covered steel and aluminum products produced at facilities in the United States, as well as certain scope 3 GHG emissions associated with the upstream intermediate inputs into these products.

Summary of Proposal: The Commission intends to submit the following draft information collection plan to OMB and invites public comment.

(1) Number of forms submitted: 2.

(2) Title of forms: Greenhouse Gas (GHG) Emissions Intensity Questionnaire, Company-level and Facility-level.

(3) Type of request: New.

(4) Frequency of use: Industry questionnaire, single data gathering in two-step collection, scheduled for 2024.

(5) Description of respondents: U.S. companies and facilities that produce covered steel and aluminum products.

(6) Estimated number of respondents: 1,000 companies and 2,500 facilities.

(7) Estimated total number of hours to complete the questionnaire per respondent: 1 hour per company, 25 hours per facility.

(8) Information obtained from the questionnaire will be treated as confidential business information by the Commission and not disclosed in a manner that would reveal the individual operations of a business.

Method of Collection: The proposed collection is a two-step data collection. First, identified steel and aluminum companies will be sent a letter and/or email with a link and individual questionnaire token for accessing the online questionnaire's section 1.1. This step involves the company providing information (including contact information) on the facilities it owns that produce covered steel and/or aluminum products. Once submitted by the company, each facility identified will receive a questionnaire token and link to complete the remainder of the questionnaire applicable to that facility. Respondents will be able to download a PDF version of the questionnaire to see all questions in their entirety, but this PDF will not be accepted as a submission.

Request for Comments: Comments are invited on (1) the elements of the draft questionnaire; (2) whether the proposed collection of information is necessary; (3) the accuracy of the agency's estimate of the burden of the proposed information collection (4) ways to enhance the quality, utility, and clarity of the information to be collected; and (5) ways to minimize the burden of the collection of information on respondents, including through the use of automated collection techniques or other forms of information technology.

The draft questionnaire and other supplementary documents may be downloaded from the USITC website at https://www.usitc.gov/saemissions.

Any comments on the draft questionnaire should be sent via email at sa.emissions@usitc.gov. Comments submitted in response to this notice will be summarized and included in the request for OMB approval of this information collection; they will also become a matter of public record. As such, proprietary or confidential business information should not be submitted as part of comments on the draft questionnaire.

By order of the Commission.
Issued: November 2, 2023.
Lisa Barton,
Secretary to the Commission.

[FR Doc. 2023-24572 Filed 11-6-23; 8:45 am]

BILLING CODE 7020-02-P